EQUAL EMPLOYMENT OPPORTUNITY COMMISSION

Agency Information Collection Activities: Existing Collection

AGENCY: Equal Employment Opportunity Commission.

ACTION: Notice of information collection—extension without change: Elementary-Secondary Staff Information Report (EEO-5) and request for comments.

SUMMARY: In accordance with the Paperwork Reduction Act of 1995 (PRA), the Equal Employment Opportunity Commission (EEOC or Commission) announces that it intends to submit to the Office of Management and Budget (OMB) a request for a three-year extension without change of the Elementary-Secondary Staff Information Report (EEO-5).

DATES: Written comments on this notice are encouraged and must be submitted on or before January 19, 2021.

ADDRESSES: You may submit comments by any of the following methods—please use only one method:

Federal eRulemaking Portal: http://www.regulations.gov. Follow the instructions on the website for submitting comments.

Mail: Comments may be submitted by mail to Bernadette B. Wilson, Executive Officer, Executive Secretariat, Equal Employment Opportunity Commission, 131 M Street NE, Washington, DC 20507.

Fax: Comments totaling six or fewer pages can be sent by facsimile (“fax”) machine to (202) 663-4114. (This is not a toll-free number.) Receipt of fax transmittals will not be acknowledged, except that the sender may request confirmation of receipt by calling the Executive Secretariat staff at (202) 663-4070 (voice) or 800-669-6820 (TTY). (These are not toll-free telephone numbers.)

Instructions: All comments received must include the agency name and docket number. All comments received will be posted without change to http://www.regulations.gov, including any personal information provided. However, the EEOC reserves the right to refrain from posting libelous or otherwise inappropriate comments, including those that contain obscene, indecent, or profane language; that contain threats or defamatory statements; that contain hate speech directed at race, color, sex, national origin, age, religion, disability, or genetic information; or that promote or endorse services or products.

Although copies of comments received are usually also available for review at the Commission's library, given the EEOC's current 100% telework status due to the Coronavirus Disease 2019 (COVID-19) public health emergency, the Commission's library is closed until further notice. Once the Commission's library is re-opened, copies of comments received in response to the proposed rule will be made available for viewing by appointment only at 131 M Street NE, Suite 4NW08R, Washington, DC 20507, between the hours of 9:30 a.m. and 5 p.m.

FOR FURTHER INFORMATION CONTACT: Rashida Dorsey, Employer Data Team, Data Development and Information Products Division, Equal Employment Opportunity Commission, 131 M Street NE, Room 4SW32J, Washington, DC 20507; (202) 663-4355 (voice), (202) 663-7063 (TTY) or email at Rashida.dorsey@eeoc.gov.

SUPPLEMENTARY INFORMATION: Pursuant to the Paperwork Reduction Act and OMB regulation 5 CFR 1320.8(d)(1), the Commission solicits public comment to enable it to: (1) Evaluate whether the proposed collection of information is necessary for the proper performance of the Commission's functions, including whether the information will have practical utility; (2) Evaluate the accuracy of the Commission's estimate of the burden of the proposed collection of information, including the validity of the methodology and assumptions used; (3) Enhance the quality, utility, and clarity of the information to be collected; and (4) Minimize the burden of the collection of information on those who are to respond, including the use of appropriate automated, electronic, mechanical, or other technological collection techniques or other forms of information technology, e.g., permitting electronic submission of responses.

Overview of Information Collection

Collection Title: Elementary-Secondary Staff Information Report (EEO-5).

OMB Number: 3046-0003.

Frequency of Report: Biennial, even years.

Type of Respondent: Public elementary and secondary school systems or districts with 100 or more employees within the 50 U.S. states and District of Columbia.

Description of Affected Public: Public elementary and secondary school systems or districts with 100 or more employees within the 50 U.S. states and District of Columbia.

Responses: 7082 per biennial collection.

Reporting Hours: 120,901.07 per biennial collection.

Burden Hour Cost: $4,055,001.76 per biennial collection.

Federal Cost: $240,120.85 per biennial collection.

Number of Forms: 1.

Form Number: EEOC Form 168A.

Abstract: Section 709(c) of Title VII of the Civil Rights Act of 1964, as amended, 42 U.S.C. 2000e-8(c), requires employers to make and keep records relevant to a determination of whether unlawful employment practices have been or are being committed, to preserve such records, and to produce reports as the Commission prescribes by regulation or order. Accordingly, the EEOC issued regulations, 29 CFR 1602.39 and .41-.45, prescribing the reporting and related record retention requirements for public elementary and secondary school systems or districts. 29 CFR 1602.39 requires school districts to make or keep all records necessary for completion of an EEO-5 submission and retain those records for three years. 29 CFR 1602.41 requires EEO-5 filers to retain a copy of each filed EEO-5 report for three years. These requirements are related to record keeping which is part of standard administrative practices, and as a result, the EEOC believes that any impact on burden would be negligible and nearly impossible to quantify. Public elementary and secondary school systems or districts with 100 or more employees within the 50 U.S. states and District of Columbia were required to submit EEO-5 reports annually from 1974 to 1981 and then biennially in even years from 1982 to the present. The individual reports are confidential. The EEOC uses EEO-5 data to investigate charges of employment discrimination against public elementary and secondary school systems or districts. The data are also used for research. The data are shared with the Department of Education (Office for Civil Rights) and the Department of Justice.

Burden Statement: The EEOC has updated its methodology for calculating annual burden to reflect the different staff responsible for preparing and filing the EEO-5. The EEOC's revised burden estimate reflects that the bulk of the work in biennially preparing an EEO-5 report is performed by computer support specialists, executive administrative staff, and payroll and human resource professionals; the revised estimate also includes time spent by school district finance professionals and superintendents who, in a few cases, may consult briefly during the reporting process. After accounting for the time spent by the various employees who have a role in preparing an EEO-5, the EEOC estimates that a school district will spend 17.07 hours to prepare the report and estimates that the aggregate biennial hour burden for all respondents is 120,901.07. The cost associated with the burden hours was calculated using hourly wage rates obtained from the Department of Labor ¹ for each job identified above as participating in the submission of the report; using those rates, we estimate that the burden hour cost per school district will be approximately $572.58, while the estimated total biennial burden cost for all 7,082 school districts will be $4,055,001.76 (See Table 1 for calculations).

¹ Median hourly wage rates were obtained from the Bureau of Labor Statistics (see U.S. Dept. of Labor, Bureau of Labor Statistics, Occupational Outlook Handbook, http://www/bls.gov/ooh/).

Table 1-Estimate of Biennial Burden for EEO-5 Report
School district staff | Hourly wage rate | Burden hours per district ᵃ | Burden cost per district | Total burden hours | Total burden hour cost
N = 7,082
Computer Support Specialist (IT Professional/Data Processing Specialist) | 26.33 | 3.43 | $90.28 | 24,281.35 | $639,327.82
Director of School Finance (Financial Managers) | 62.45 | 0.14 | 8.92 | 1,012.02 | 63,200.51
Executive Clerical Staff | 26.35 | 2.93 | 77.17 | 20,740.35 | 546,508.10
Human Resource Specialist | 29.77 | 5.43 | 161.61 | 38,445.35 | 1,144,517.93
Payroll Specialist | 19.49 | 1.43 | 27.84 | 10,117.35 | 197,187.06
Senior Human Resource Managers | 56.11 | 3.43 | 192.38 | 24,281.35 | 1,362,426.28
Superintendent (School Management Occupations) | 50.33 | 0.29 | 14.38 | 2,023.33 | 101,834.07
Total |  | 17.07 | 572.58 | 120,901.07 | 4,055,001.76
Note: Burden Hours per district were determined through interviews with a stratified heterogeneous mixture of school districts used to estimate burden, as approved in the 2018 Paperwork Reduction Act.
ᵃBurden Hours are rounded to the tenth decimal place in this publication.

Estimates are based on the assumption of some paper reporting. During the 2018 EEO-5 filing period, the EEOC experienced a 49.8 percent increase in paper filing since the 2016 EEO-5 report filing. Despite the increase, paper filing represents 3.3 percent of total reports received in 2018. Electronic filing remains the most efficient, accurate, and secure means of reporting for respondents required to submit the EEO-5 report. The EEOC has made electronic filing much easier for respondents required to file the EEO-5 Report and as a result, more respondents are using this electronic filing method. Accordingly, the EEOC will continue to encourage EEO-5 filers to submit data through electronic filing, and will only accept paper records from filers who have secured permission to submit data via paper submission.

For the Commission.
Janet Dhillon,
Chair.

[FR Doc. 2020-25564 Filed 11-18-20; 8:45 am]

BILLING CODE 6570-01-P